DEPARTMENT OF TRANSPORTATION

Surface Transportation Board

[Docket No. FD 35483]

Camden & Southern Railroad, Inc.—Lease and Operation Exemption—Camden Area Industrial Development Corporation

Camden & Southern Railroad, Inc. (C&S), a noncarrier, has filed a verified notice of exemption under 49 CFR 1150.31 to lease and operate 17,837 feet of trackage owned by Camden Area Industrial Development Corporation (CAIDC), located at Zone JH482, Yard 06, opposite milepost 463 of Union Pacific Railroad Company's Gurdon Subdivision, Camden, Ouachita County, Ark. The notice was filed on March 29, 2011 and was supplemented on April 7, 2011.

This transaction is related to a verified notice of exemption filed by Arkansas Shortline Railroads, Inc. (ASR), a noncarrier and the parent of C&S, to continue in control of C&S and Class III rail carriers Dardanelle & Russellville Railroad, Inc. and Ouachita Railroad, upon C&S becoming a Class III rail carrier. See Ark. Shortline R.R.—Continuance in Control Exemption—Dardanelle & Russellville R.R., Ouachita R.R., & Camden & S. R.R., FD 35484 (STB served Apr. 14, 2011); Ark. Shortline R.R.—Continuance in Control Exemption—Dardanelle & Russellville R.R., Ouachita R.R., & Camden & S. R.R., 76 FR 21797-98 (Apr. 18, 2011).

The transaction is expected to be consummated on or shortly after May 7, 2011.

C&S certifies that its projected annual revenues as a result of the transaction will not result in C&S becoming a Class II or Class I rail carrier and further certifies that its projected annual revenue will not exceed $5 million.

If the verified notice contains false or misleading information, the exemption is void ab initio. Petitions to revoke the exemption under 49 U.S.C. 10502(d) may be filed at any time. The filing of a petition to revoke will not automatically stay the effectiveness of the exemption. Petitions for stay must be filed no later than April 29, 2011 (at least 7 days before the exemption becomes effective).

An original and 10 copies of all pleadings, referring to Docket No. FD 35483, must be filed with the Surface Transportation Board, 395 E Street, SW., Washington, DC 20423-0001. In addition, a copy of each pleading must be served on Richard H. Streeter, 5255 Partridge Lane, NW., Washington, DC 20016.

Board decisions and notices are available on our Web site at http://www.stb.dot.gov.

Decided: April 18, 2011.
By the Board.
Rachel D. Campbell,
Director, Office of Proceedings.
Jeffrey Herzig,
Clearance Clerk.

[FR Doc. 2011-9791 Filed 4-21-11; 8:45 am]

BILLING CODE 4915-01-P